INTERNATIONAL TRADE COMMISSION

[USITC SE-15-019]

Government in the Sunshine Act Meeting Notice

AGENCY HOLDING THE MEETING: United States International Trade Commission.

TIME AND DATE: July 14, 2015 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-522 and 731-TA-1258 (Final) (Certain Passenger Vehicle and Light Truck Tires from China). The Commission is currently scheduled to complete and file its determinations and views of the Commission on July 27, 2015.

5. Vote in Inv. No. 731-TA-1059 (Second Review) (Hand Trucks from China). The Commission is currently scheduled to complete and file its determination and views of the Commission on July 30, 2015.

6. Outstanding action jackets: None.

In accordance with Commission policy, subject matter listed above, not disposed of at the scheduled meeting, may be carried over to the agenda of the following meeting.

By order of the Commission.
Issued: July 6, 2015.
William R. Bishop,
Supervisory Hearings and Information Officer.

[FR Doc. 2015-16908 Filed 7-7-15; 4:15 pm]

BILLING CODE 7020-02-P